DEPARTMENT OF LABOR

Office of the Secretary

Colombian Trade Union Training Program

AGENCY: Bureau of International Labor Affairs, Department of Labor.

ACTION: Notice of availability of funds and solicitation for grant application (SGA 03-19).

SUMMARY: This notice contains all of the necessary information and forms needed to apply for grant funding. The U.S. Department of Labor (USDOL), Bureau of International Labor Affairs (ILAB), announces the availability of funds to be granted by cooperative agreement (hereafter referred to as “grant”) to one or more qualifying organizations. USDOL will award up to U.S. $700,000 through one or more grants to an organization or organizations to develop and implement a project(s) designed to contribute to the reduction of social conflict and violence in Colombia by improving the ability of the Colombian trade union movement to participate in the economic, political and social development of the country; protect human and worker rights; and play a positive role in the peace process. USDOL will competitively award a grant to qualified organizations that demonstrate the capacity to design, implement, and manage a project to:

• Bring Colombian trade unionists to the U.S. or a third country to expose them to unionized workplaces with trade skills similar to those of the Colombian trade unionists in order to enhance their own skills and deepen their understanding of effective trade union administration and industrial relations in a workplace outside Colombia.

• Improve the skills of Colombian trade union leaders in trade union administration, collective bargaining, dispute prevention and resolution, English language, communication, and using computers.

DATES: The closing date for receipt of applications is Friday, August 8, 2003. Applications must be received by 4:45 p.m. (Eastern Time) at the address below.

ADDRESSES: Application forms will not be mailed. They are published as part of this Federal Register notice and in the Federal Register, which may be obtained from your nearest U.S. Government office or public library or online at http://www.archives.gov/federal_register/index.html. Applications must be delivered to: U.S. Department of Labor, Procurement Services Center, 200 Constitution Avenue, NW., Room N-5416, Attention: Lisa Harvey, Reference: SGA 03-19, Washington, DC 20210.

Applications sent by e-mail, telegram, or facsimile (FAX) will not be accepted. Applications sent by other delivery services, such as Federal Express, UPS, etc., will be accepted; the applicant, however, bears the responsibility for timely submission. Applications that do not meet the conditions set forth in this notice will not be honored. No exceptions to the mailing and delivery requirements set forth in this notice will be granted.

FOR FURTHER INFORMATION CONTACT: Lisa Harvey, e-mail address: harvey.lisa@dol.gov, tel: (202) 693-4570 (this is not a toll-free number).

SUPPLEMENTARY INFORMATION: The expansion of global trade and investment and the improvement of working conditions and protection of basic worker rights are best understood as mutually reinforcing, and not mutually exclusive objectives. In today's environment of widespread market reforms and economic integration, efficient and fair labor markets are a prerequisite for economic growth, increasing living standards, and promoting employment in the U.S. As political developments, market reforms, and the transition to a global economy bring significant changes to national economies, individual labor market systems need to change accordingly to remain viable and to support their populations. In addition, the inability to manage the development of a relatively open market economy during periods of political and social transition impedes the development of political democracy, social cohesion, and equity.

USDOL/ILAB carries out a worldwide International Cooperation Program that helps address some of these difficulties by working to ensure that the greatest possible number of workers benefit from a more open world economy. The three major initiatives of the International Cooperation Program are:

Improving Economic Opportunity and Income Security for Workers (EOIS)—Under the EOIS initiative, USDOL works to strengthen developing countries' abilities to build and institutionalize social safety net policies and programs needed to improve working conditions and foster economic growth. Projects under this initiative aim to increase employment among targeted groups, improve workplace safety and health, and increase access to social insurance.

Protecting the Basic Rights of Workers (PBRW)—Under the PBRW initiative, USDOL works to implement the fundamental principles embodied in the International Labor Organization's (ILO) Declaration on Fundamental Principles and Rights at Work, specifically working towards strengthening the right to freedom of association and collective bargaining, eliminating forced or compulsory labor, and eliminating employment discrimination.

International HIV/AIDS Workplace-based Education Program (IHWEP)—Under the IHWEP initiative, USDOL works to reduce the rate of HIV/AIDS infection through workplace-based prevention and education programs and to improve the workplace environment for workers living with HIV/AIDS. The IHWEP program also works to build the capacity of the tripartite partners to address the long-term impact of HIV/AIDS on labor markets and economic development.

USDOL/ILAB manages its projects in partnership with stakeholders representing the government, employers, workers, and other organizations.

I. Authority

ILAB is authorized to award and administer this program by the Consolidated Appropriations Resolution, 2003, Pub. L. 108-7, 117 Stat. 11 (2003).

II. Application Process

A. Eligible Applicants

Any commercial, international, educational, or not-for-profit organization (including faith-based organizations) which has experience in trade union skills training, knowledge of the international trade union movement, experience working with the Colombian government, and Colombian worker and employer organizations, and/or has experience working with U.S. domestic trade unions is eligible for this grant(s). Partnerships of more than one organization are also eligible although in such a case a lead organization must be identified. The capability of an applicant, partners, and co-applicants to perform necessary aspects of this solicitation will be determined under Section XI—Review and Selection of Applications for Award. All applicants are requested to complete the Survey on Ensuring Equal Opportunity for Applicants (OMB No. 1225-0083) (see Appendix A).

Please note that eligible grant applicants must not be classified under the Internal Revenue Code as a 501(c)(4) entity (see 26 U.S.C. 501(c)(4)). According to the Lobbying Disclosure Act of 1995, as amended by 2 U.S.C. 1611, an organization, as described in section 501(c)(4) of the Internal Revenue Code of 1986, that engages in lobbying activities will not be eligible for the receipt of federal funds constituting an award, grant, or loan.

B. Submission of Applications

One (1) blue ink-signed original, complete application in English plus two (2) copies of the application must be submitted to the U.S. Department of Labor, Procurement Services Center, 200 Constitution Avenue, NW., Room N-5416, Washington, DC 20210, no later than 4:45 p.m. Eastern Time on the established due date. To aid with review of applications, USDOL also encourages applicants to submit three (3) additional paper copies of the application (five total). Applicants who do not provide additional copies will not be penalized.

The application must consist of two (2) separate parts. Part I of the application must contain the Standard Form (SF) 424, “Application for Federal Assistance” and sections A-F of the Budget Information Form SF 424A (see Appendix A). These forms are also available at http://www.whitehouse.gov/omb/grants. Part II must contain a technical proposal that demonstrates capabilities in accordance with the statement of work (Section III) and the selection criteria (Section XI).

To be considered responsive to this solicitation, the application must consist of the above-mentioned separate sections not to exceed 40 single-sided (8½″ x 11″ or A4), double-spaced, 12-point font, typed pages for which a response is submitted. Major sections and sub-sections of the application should be divided and clearly identified (e.g. 8, with tab dividers), and all pages shall be numbered. Applicants are required to propose that a project address ALL of the project objectives identified in the Statement of Work in Section III. Any applications that do not conform to these standards may be deemed non-responsive to this solicitation and may not be evaluated. The application must include a table of contents and an abstract summarizing the application in not more than two (2) pages. Standard forms, attachments, résumés, exhibits, letters of support, and the abstract are not counted towards the page limit. If an applicant exceeds the stated page limit, the review panel has the discretion to deduct 10 points.

Upon completion of negotiations, the individual signing the SF 424 on behalf of the applicant must be authorized to bind the applicant.

C. Acceptable Methods of Submission

The grant application package must be received at the designated place by the date and time specified, or it will not be considered. Applications sent by e-mail, telegram, or facsimile (FAX) will not be accepted. Applications sent by other delivery services, such as Federal Express, UPS, etc., will be accepted; the applicant, however, bears the responsibility for timely submission. Applications that do not meet the conditions set forth in this notice will not be honored. No exceptions to the mailing, delivery, and hand-delivery conditions set forth in this notice will be granted.

Any application received at the Office of Procurement Services after 4:45 pm Eastern Time on Friday, August 8, 2003 will not be considered unless it is received before the award is made and:

• It was sent by registered or certified mail no later than the fifth calendar day before [Enter Date]; or

• It was sent by U.S. Postal Service Express Mail/Next Day Service from the post office to the addressee no later than 5 p.m. at the place of mailing two (2) working days (excluding weekends and Federal holidays), prior to [Enter date]; or

• It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail/Next Day Service from the post office to the addressee is the date entered by the Post Office receiving clerk on the “Express Mail/Next Day Service—Post Office to Addressee” label and the postmark on the envelope or wrapper on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Service Center on the application wrapper or other documentary evidence or receipt maintained by that office.

All applicants are advised that U.S. mail delivery in the Washington DC area has been slow and erratic due to concerns involving anthrax contamination. Applicants must take this into consideration when preparing to meet the application deadline. It is recommended that you confirm receipt of your application with your delivery service.

D. Funding Levels

Up to U.S. $700,000 is available for this project, and USDOL reserves the right to award more than one grant. USDOL may award one or more grants to one organization or several, or to a partnership of more than one organization. The award of any sub-contract will be subject to USDOL approval (see Section IV).

E. Program Duration

The duration of the project funded by this SGA is up to two (2) years. The start date of program activities will be negotiated upon award of the grant, which will take place no later than September 30, 2003.

III. Statement of Work

This SGA announces the availability of funds for a project to contribute to the reduction of social conflict and violence in Colombia by improving the ability of the Colombian trade union movement to: participate in the economic, political and social development of the country; protect human and worker rights; and play a positive role in the peace process. Specific project objectives are identified in Section III.C. Applicants should submit proposals for projects that demonstrate the organizations' capabilities to implement a project in accordance with the Statement of Work and the selection criteria. USDOL encourages applicants to be creative in proposing innovative and cost-effective interventions that will produce a demonstrable impact. Funds will be provided by grant to qualifying organizations. The grant will be actively managed by USDOL/ILAB to assure achievement of the stated project objectives.

Note: Selection of an organization as a grant recipient does not constitute approval of the grant application as submitted. Before the actual grant is awarded, USDOL may enter into negotiations about such items as program components, funding levels, and administrative systems in place to support grant implementation. If the negotiations do not result in an acceptable submission, the Grant Officer reserves the right to terminate the negotiation and decline to fund the application. Award is also contingent upon signature of a letter of agreement between USDOL and relevant ministries in target countries.

A. Background and Problem Statement

Violence against trade unionists and their leaders continues to be a critical problem in Colombia. In the midst of an armed conflict between the government, guerrillas, and paramilitary forces, unions have played a key role in mobilizing civil society in support of peace negotiations. As a result, both paramilitary forces and guerilla groups have targeted union leaders. According to the State Department's annual Human Rights Report, 178 labor unionists were killed in 2002 and 1,875 have been killed since 1991. Also in 2002, an additional 189 received death threats, 26 were kidnapped, 8 disappeared, and 17 members survived physical attempts on their life. According to former Colombian Labor Minister, Angelino Garzon, “Colombia is losing an entire generation of labor leaders whose contribution to improving economic opportunities for workers through constructive dialogue with employers and government is invaluable.”

Violence against trade unionists is perpetuated by a climate of impunity. According to the State Department's Human Rights Report, there were 376 criminal investigations into violations of the right to life of unionists from August 1986 to April 2003. Of these, 321 were in the preliminary stage, 24 were at the investigative stage, 3 were at the trial stage, 7 had been sent to military criminal courts, and 13 were awaiting assignment. Guilty verdicts were issued in only five cases.

Despite these major challenges, Colombia's trade unions continue to play an important role as representatives of workers in collective bargaining, as protagonists in key national debates over economic policy (such as social security and public sector reform), and as leading representatives of civil society and supporters of peace negotiations. But the combination of physical violence and economic insecurity has made it extremely difficult for Colombian trade union leaders to develop the organizational and administrative skills that they need to promote effective industrial relations and function in a modern economy.

B. Target Population

The grantee will establish a selection procedure to identify Colombian trade union leaders who could benefit from advanced training in trade union administration, collective bargaining, dispute prevention and resolution, and related skills.

C. Objectives

The Grantee will implement, in partnership with USDOL, a project designed to contribute to the reduction of social conflict and violence in Colombia by improving the ability of the Colombian trade union movement to participate in the economic, political and social development of the country; protect human and worker rights; and play a positive role in the peace process. Specific project objectives include:

• Improving the skills of Colombian trade union leaders in trade union administration, collective bargaining, dispute prevention and resolution, English language, communications, and using computers.

• Bringing Colombian trade unionists to the U.S. or a third country to expose them to unionized workplaces with trade skills similar to those of the Colombian trade unionists in order to enhance their own skills and deepen their understanding of effective trade union administration and industrial relations in a workplace outside Colombia.

Relationship to USDOL Strategy: By helping to improve the capacity of trade union leaders to contribute to the political, economic, and social development of Colombia, protect human and worker rights, and play a positive role in the peace process, the proposed project supports achievement of USDOL's GPRA goal (3.3b) to, “Improve living standards and conditions of work for workers in developing and transition countries.”

D. Type of Work To Be Performed/Activities

The selected Grantee(s) will be responsible for developing a strategy for successfully achieving the stated objectives of the project and addressing the problem(s) identified in the Background and Problem Statement, developing and implementing the major tasks to be accomplished as part of that strategy, tracking and reporting on progress in achieving the stated objectives, and providing any necessary services.

When developing the strategy and activities, the Applicant should take into consideration the following issues:

• Need to carefully select for training those trade union leaders who are: (a) Committed to training other trade unionists upon completion of their training in the U.S. or a third country, (b) most likely to adapt to living conditions in the U.S., (c) capable of learning in all skill areas, and (d) well-respected within the labor community for their commitment to democracy, honesty, transparency, and the peaceful resolution of conflict.

• Need to effectively orient trainees prior to departure to U.S. or a third country for training.

• Need to offer on-going counseling to those trainees who may require it throughout their training in the U.S. or third country.

• Need to ensure that trainees are provided with opportunities to disseminate their learning to other trade unionists upon return to Colombia.

E. Expected Outcomes/Project Outputs

By the end of the grant period, the project will have:

• Trained at least 20 trade union leaders in trade union administration, collective bargaining, dispute prevention and resolution, English language, communication, and computer skills.

• Established a communication network between international trade unions and non-governmental organizations that will provide continued support to the trade union leaders upon their return to Colombia.

• Developed a plan to safely reintegrate the trade union leaders into Colombia.

• Developed and implemented a system to ensure that the trained trade union leaders disseminate the information and skills that they learned in the U.S. or third country to their Colombian counterparts.

The selected Grantee will be responsible for identifying and producing the activities, outputs, and deliverables that will support achievement of these expected outcomes.

F. Deliverables

Following the award of the grant, the Grantee(s) shall collaborate with USDOL/ILAB to:

• Develop a Project Document (including a project budget) that will set the technical parameters and provide guidance to the project. It should include all information and be prepared according to the standardized format outlined by USDOL. While the Applicant's original proposal will serve as the basis of the Project Document, in every case USDOL has found it advantageous to visit the field and reach consensus on the project strategy with host country counterparts in order to further inform the project design. USDOL must receive a draft of the Project Document 45 days after returning from travel to the relevant area(s). The Project Document must be finalized no later than 30 days after receipt of USDOL comments on the draft.

• Establish a Workplan identifying major project activities, deadlines for their completion, and person(s) responsible for completing these activities (within 60 days after the Project Document is finalized).

• Set project indicators, including indicators that support ILAB's Government Performance and Results Act (GPRA) goal, “Improve living standards and conditions of work for workers in developing and transition countries.” (within 90 days of finalizing the Project Document).

• Create a Performance Monitoring Plan (PMP) to establish the data needed to measure achievement of project indicators and the methods for collection and reporting. It should include all information and be prepared according to the standardized format outlined by USDOL (within 90 days of finalizing the Project Document).

The Grantee(s) must submit copies of all required documents to USDOL by the specified due dates. Other documents that may be produced are to be submitted by mutually agreed-upon deadlines. The Project Document, Workplan, project indicators, PMP, and data collection system are subject to final approval by the Grant Officer's Technical Representative (GOTR) responsible for monitoring the grant.

G. Special Program Requirements

1. USDOL Responsibilities

Following the award of the grant(s), USDOL shall:

• Provide the Grantee(s) with programmatic support to help ensure effective implementation of the project, including training and consultation in USDOL/ILAB management, monitoring, and evaluation systems and standard operating procedures.

• Provide advice and consultation to Grantee(s) on specific program criteria.

• If, based upon the responses to this solicitation and subsequent to the award, USDOL determines that it is necessary, travel to the field with the Grantee(s) and other technical experts for a project design mission before finalizing the project design and the Project Document. USDOL will procure the services of technical experts if it determines that such expertise is necessary for the project design mission.

• Fund at least two project evaluations—a mid-term evaluation at approximately the midpoint of the grant period and a final evaluation approximately two months prior to the end of the grant period. USDOL/ILAB—in consultation with the Grantee(s)—will be responsible for drafting and finalizing all evaluation Terms of Reference (TOR), procuring the services of an independent evaluator (who will write the evaluation report), and providing at least one representative from USDOL/ILAB to participate on the evaluation team, when appropriate. USDOL/ILAB may choose to perform additional evaluations as appropriate.

• Have the right, at all reasonable times, to review all documents pertaining to the project, participate on field missions (including monitoring and evaluation missions), and to discuss administrative and technical issues pertaining to the project with the Grantee.

2. Grantee Responsibilities

Following the award of the grant(s), the Grantee(s) shall:

• Establish the institutional and management systems and means necessary to provide and monitor the delivery of services and distribute wages and material effectively.

• If USDOL determines that it is necessary, travel to the field with USDOL and other technical experts for a project design mission before finalizing the project design and the Project Document. The Grantee(s) shall bear the financial costs for having its representative(s) participate on the project design mission.

• Assist in project evaluations, including reviewing and providing comments on the evaluation Terms of Reference (TORs) drafted by USDOL and evaluation reports written by the lead evaluator. If invited to participate on an evaluation mission by USDOL, the Grantee(s) shall bear the financial costs for having a representative of the Grantee(s) participate on an evaluation team (e.g., travel, per diem).

• Submit trip reports to USDOL within fourteen (14) calendar days of project-related travel. If the implementing partner travels with a USDOL staff member, the implementing organization will submit a draft trip report to the staff member within fourteen (14) calendar days of project-related travel for comments. The format for the trip report will be provided by USDOL.

• Inform USDOL/ILAB at least one (1) month prior to scheduling any major public events or ceremonies regarding the project.

• Submit to USDOL all media-related and educational materials developed by it or its sub-contractors under this Grant(s), including relevant press releases, for use in this project before they are reproduced, published, or used. The Grantee(s) must consult with USDOL to ensure that materials are compatible with USDOL materials relating to its International Cooperation Program. USDOL considers brochures, pamphlets, videotapes, slide-tape shows, curricula, and any other training materials used in the project to be educational materials. USDOL will review materials for technical accuracy. USDOL will also review training curricula and purchased training materials for accuracy before they are used. The Grantee(s) must obtain prior approval from the Grant Officer for all materials developed or purchased under this grant. All materials produced by Grantee(s) must be provided to USDOL in digital format for possible publication on the Internet by USDOL.

IV. Key Personnel and Sub-Contractors

USDOL expects all key personnel to work full-time on the project. All key personnel must be fluent in both written and spoken Spanish and English. The Grant Officer must approve candidates for all key personnel positions. USDOL's Grant Officer's Technical Representative (GOTR) shall review candidates' qualifications and provide recommendations to the Grant Officer regarding the selection of candidates for all key personnel positions. The Grantee(s) shall submit rèsumès, curricula vitae, and other relevant information to the GOTR and receive approval from the Grant Officer before extending an offer of employment and before the nominated individual conducts any activities.

Key personnel may only be changed with the approval of the Grant Officer. The Grantee(s) shall not substitute or replace key personnel unless new personnel are at least equal in qualifications to those personnel who are replaced. If a need to find new key personnel arises, the Grantee(s) shall notify the GOTR as soon as the need becomes known. If the Grant Officer is unable to approve the personnel change, he/she reserves the right to terminate the grant.

Organizations may apply for funding in partnership with other organizations, but in such a case, a lead organization must be identified. Use of sub-contractors is subject to Federal laws and regulations, including OMB circulars requiring free and open competition for procurement transactions.

The Grant Officer must approve all sub-contractors. USDOL's Grant Officer's Technical Representative (GOTR) shall review candidates' qualifications and provide recommendations to the Grant Officer regarding the selection of candidates for all sub-contractors. The lead organization shall submit a list of previous projects implemented by the proposed sub-contractor, along with a description of qualifications, rèsumès, curricula vitae, and other relevant information to the GOTR and receive approval from the Grant Officer before extending a sub-contract. The lead organization shall not substitute or replace sub-contractors unless new sub-contractors are at least equal in qualifications to those that are replaced. Sub-contractors may only be changed with the approval of the Grant Officer. If a need to find new sub-contractors arises, the lead organization shall notify the GOTR as soon as the need becomes known.

Note: Except as specifically provided, USDOL/ILAB acceptance of a proposal and an award of federal funds to sponsor any program(s) does not provide a waiver of any grant requirement and/or procedures. For example, if an application identifies a specific sub-contractor to provide the services, the USDOL/ILAB award does not provide the justification or basis to sole-source the procurement, i.e., to avoid competition.

V. Reporting Requirements

All reports (see Appendix B) are due no later than 30 days after the end of a fiscal quarter and shall be submitted in English. USDOL/ILAB and the Grantee(s) should work together to resolve any issues within 30 days of receipt of a report.

A. Financial Reports

The Grantee(s) shall submit financial reports on a quarterly basis. The first reporting period shall end on the last day of the fiscal quarter (December 31, March 31, June 30, or September 30) during which the grant was signed.

The Grantee(s) shall use Standard Form (SF) 269A, Financial Status Report, to report the status of the funds, at the project level, during the grant period. A final SF269A shall be submitted no later than 90 days following completion of the grant period.

If the Grantee(s) uses the U.S. Department of Health and Human Services Payment Management System (HHS PMS), they shall also send USDOL copies of the PSC 272 that it submits to HHS, on the same schedule. Otherwise, the Grantee(s) shall submit Standard Form (SF) 272, Federal Cash Transactions Report, on the same schedule as the SF269A.

Financial reports are due within 30 days of the end of the reporting period (i.e., by April 30, July 30, October 30, and January 30).

B. Technical Reporting Requirements

After signing the agreement, the Grantee(s) shall submit progress reports to USDOL/ILAB at the end of each fiscal quarter. The first reporting period shall end on the last day of the fiscal quarter (December 31, March 31, June 30, or September 30) during which the Grant was signed. Between reporting dates, the Grantee(s) shall also immediately inform USDOL/ILAB of significant developments and/or problems affecting the organization's ability to accomplish work.

The Grantee(s) shall submit two types of progress reports according to the standardized format used by USDOL/ILAB:

1. Status Reports

Status Reports compare actual and planned activities during the reporting period, which consists of one quarter (January—March and July—September). Its purpose is to provide an update on the Workplan, problems/solutions, major achievements, or modifications. The Status Report should be brief and include an attached project Workplan indicating the status of Workplan activities: “completed,” “on schedule,” “delayed,” “cancelled.” The body of report should provide a summary explanation of any deviation from the Workplan and recommended actions.

Status Reports are due within 30 days of the end of the reporting period (i.e., by April 30 and October 30).

2. Technical Progress Reports

Technical Progress Reports provide information on how the project is progressing in achieving its stated objectives. Technical Progress Reports will be based on the project's stated objectives, indicators, and Performance Monitoring Plan (PMP) and will provide both quantitative and qualitative information and a narrative assessment of performance for the preceding six-month period (January—June and July—December). Data measuring achievement of the project's indicators will be attached to the narrative, which will provide a composite overview of progress, trends, problems, new proposals, lessons learned, and expenditures. The body of the Technical Progress Report should be 2-3 pages in length, stressing major points related to strategy.

Technical Progress Reports are due within 30 days of the end of the reporting period (i.e., by July 30 and January 30).

C. Instructions for Submitting Reports

All reports shall cite the assigned grant number. The Grantee(s) shall submit hard copy of all financial reports to each of the following persons:

Lawrence Kuss, Grant Officer, Procurement Services Center, U.S. Department of Labor, 200 Constitution Ave., NW., Room N-5416, Washington, DC 20210.

Laura Buffo, Grant Officer's Technical Representative, Office of Foreign Relations, U.S. Department of Labor, 200 Constitution Ave., NW., Room S-5303, Washington, DC 20210.

Gene Contee, Financial Management Services Center, U.S. Department of Labor, 200 Constitution Ave., NW., Room S-5526, Washington, DC 20210.

The Grantee(s) shall submit one hard copy of all technical reports to each of the following persons:

Lawrence Kuss, Grant Officer, Procurement Services Center, U.S. Department of Labor, 200 Constitution Ave., NW., Room N-5416, Washington, DC 20210.

Laura Buffo, Grant Officer's Technical Representative, Office of Foreign Relations, U.S. Department of Labor, 200 Constitution Ave., NW., Room S-5303, Washington, DC 20210.

VI. Travel Procedures

The Grantee(s) shall submit a quarterly travel plan to the GOTR. The plan shall include the following information for all individuals traveling for the Grantee(s) to support activities covered by this grant:

• Name of the person(s) who will be traveling;

• Destination(s);

• Dates of travel;

• Purpose of travel—what they will be doing and why.

The Grantee(s) should submit the quarterly travel plan no later than four weeks prior to the start of each subsequent fiscal quarter (e.g., By May 31, the GOTR should have travel plans for all Grantee travel occurring July 1 through September 30). For a trip beginning later than four weeks from the time the plan is submitted, dates should reflect a “best guess” (rather than simply listing “To Be Determined”). The dates should, however, be finalized no later than 4 weeks prior to departure.

All travelers should submit finalized travel details to the GOTR no later than 4 weeks prior to the desired departure date. If any major holiday occurs during those 4 weeks, travelers should submit finalized details earlier.

Individuals are not permitted to travel until USDOL/ILAB has received country clearance from the State Department (via e-mail or cable) or has received written authorization (including by e-mail) from the GOTR. This also applies to expatriates living abroad who go on personal or home leave: although they do not need clearance to enter the U.S., they do need clearance to re-enter the country in which they are stationed.

While travelers may cancel trips at any time, USDOL/ILAB will not permit any amendments to a clearance cable (e.g., for changes in dates of travel, or changes in the identified traveler) less than four weeks prior to the desired date of departure, except in dire emergencies, as determined by the GOTR.

VII. Acknowledgment of USDOL Funding

A. Acknowledgement on Printed Materials

In all circumstances, the following shall be displayed on printed materials: “Preparation of this item was funded by the United States Department of Labor under Grant No. [insert the appropriate Grant number].”

When issuing statements, press releases, requests for proposals, bid solicitations, and other documents describing projects or programs funded in whole or in part with Federal money, all Grantees receiving Federal funds must clearly state:

• The percentage of the total costs of the program or project, which will be financed with Federal money;

• The dollar amount of Federal funds for the project or program; and

• The percentage and dollar amount of the total costs of the project or program that will be financed by non-governmental sources.

B. Use of the USDOL Logo

In consultation with ILAB, the Grantee(s) will acknowledge USDOL's role in one of the following ways:

• The USDOL logo may be applied to USDOL-funded material prepared for world-wide distribution, including posters, videos, pamphlets, research documents, national survey results, impact evaluations, best practice reports, and other publications of global interest. The Grantee(s) must consult with USDOL on whether the logo may be used on any such items prior to final draft or final preparation for distribution. In no event shall the USDOL logo be placed on any item until USDOL has given the Grantee written permission to use the logo on the item.

• All documents should include the following notice: “This document does not necessarily reflect the views or policies of the U.S. Department of Labor, nor does mention of trade names, commercial products, or organizations imply endorsement by the U.S. Government.”

VIII. Administrative Requirements

A. General

Grantees, which may include faith-based organizations, will be subject to applicable Federal laws (including provisions of appropriations law) and the applicable Office of Management and Budget (OMB) Circulars. Determinations of allowable costs will be made in accordance with the applicable Federal cost principles, e.g., Non-Profit Organizations—OMB Circular A-122. The grant(s) awarded under this SGA will be subject to the following administrative standards and provisions, if applicable:

• 29 CFR Part 36—Federal Standards for Nondiscrimination on the Basis of Sex in Education Programs or Activities Receiving Federal Financial Assistance.

• 29 CFR Part 93—New Restrictions on Lobbying.

• 29 CFR Part 95—Uniform Administrative Requirements for Grants and Agreements with Institutions of Higher Education, Hospitals and Other Non-Profit Organizations, and with Commercial Organizations, Foreign Governments, Organizations Under the Jurisdiction of Foreign Governments and International Organizations.

• 29 CFR Part 96—Federal Standards for Audit of Federally Funded Grants, Contracts and Agreements.

• 29 CFR Part 98—Federal Standards for Government wide Debarment and Suspension (Nonprocurement) and Government-wide Requirements for Drug-Free Workplace (Grants).

• 29 CFR Part 99—Federal Standards for Audits of States, Local Governments, and Non-Profit Organizations.

B. Sub-Contracts

Sub-contracts must be awarded in accordance with 29 CFR 95.40-48. In compliance with Executive Orders 12876 as amended, 13230, 12928, and 13021 as amended, the Grantee(s) is strongly encouraged to provide subcontracting opportunities to Historically Black Colleges and Universities, Hispanic-Serving Institutions and Tribal Colleges and Universities.

C. Encumbrance of Grant Funds

Grant funds may not be encumbered/obligated by the Grantee(s) before or after the period of performance. Encumbrances/obligations outstanding as of the end of the grant period may be liquidated (paid out) after the end of the grant period. Such encumbrances/obligations may involve only commitments for which a need existed during the grant period and which are supported by approved contracts, purchase orders, requisitions, invoices, bills, or other evidence of liability consistent with the Grantee's purchasing procedures and incurred within the grant period. All encumbrances/ obligations incurred during the grant period must be liquidated within 90 days after the end of the grant period, if practicable.

D. Site Visits

USDOL, through its authorized representatives, has the right, at all reasonable times, to make site visits to review project accomplishments and management control systems and to provide such technical assistance as may be required. If USDOL makes any site visit on the premises of the Grantee or a sub-contractor(s) under this grant, the Grantee must provide and must require its sub-contractors to provide all reasonable facilities and assistance for the safety and convenience of the Government representatives in the performance of their duties. All site visits and evaluations will be performed so as not to unduly delay the work.

IX. Grant Closeout Procedures

A. Definitions

1. Grant Closeout

The closeout of a grant is the process by which a Federal grantor agency determines that all applicable administrative actions and all required work of the grant have been completed by the grantee and the grantor.

2. Date of Completion

The date when all work under a grant is completed or the date in the grant award document, or any supplement or amendment thereto, on which Federal assistance ends, whichever comes first.

3. Disallowed Costs

Disallowed costs are those charges to a grant that the grantor agency or its representative determines to not be allowed in accordance with the applicable Federal Cost Principles or other conditions contained in the grant.

B. Close-Out Procedures

Grants shall be closed out in accordance with the following procedures:

• Upon request, the Grantor shall make prompt payments to a Grantee for allowable reimbursable costs under the grant being closed out.

• The Grantee shall immediately refund to the Grantor any balance of unobligated (unencumbered) cash advanced to the Grantee that is not authorized for retention by the Grantee for use on other grants.

• Within 90 days after completion of the grant, the Grantee shall submit all financial, performance and other reports required by the Grant Officer to close out the grant. The Grant Officer may authorize extensions when requested by the grantee.

• The Grant Officer shall make a settlement for any upward or downward adjustments to the Federal share of costs after these reports are received.

• In the case of grants that include matching/in-kind contributions, the Grantee is legally required to provide the total amount of matching/in-kind contributions indicated on the face sheet of the agreement, as amended. Failure to provide this level of matching/in-kind contribution shall result in the disallowance of all or part of otherwise allowable Federal share costs, equal to the total matching/in-kind share committed to, less the share actually provided.

• In the event that a final audit has not been performed prior to the closeout of the grant, the Grantor shall retain the right to recover an appropriate amount after fully considering the recommendations on disallowed costs resulting from the final audit.

X. Measuring the Performance of the Grantee

The performance of the Grantee will be assessed based on the timely completion of one or more deliverables that will be due to USDOL at the end of each quarter of the Grant. These deliverables should reflect the outcomes of the project that are expected to help achieve the project's objective(s). Applicants are requested to include in their proposal a project implementation plan and approach to monitor the performance of the project throughout the period of the grant. The implementation plan is to consist of a quarterly schedule of activities and list of deliverables that would be completed by the contractor each quarter. The defined list and schedule of deliverables is viewed by USDOL as a key component of the technical proposal.

XI. Review and Selection of Applications for Award

USDOL will screen all applications to determine whether all required elements are present and clearly identifiable. A Technical Panel will objectively rate each complete application against the criteria described in this announcement. The panel recommendations to the Grant Officer are advisory in nature. The Grant Officer may elect to select one or more Grantees on the basis of the initial proposal submission, or the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as panel findings, geographic presence of the applicants, and the best value to the government, cost, and other factors. The Grant Officer's determination for award under this SGA is final.

A. The Review Process

The criteria below will serve as the basis upon which submitted applications will be evaluated. Technical aspects of the application will constitute 100 points of the total evaluation. Up to five (5) additional points will be given for leveraging non-Federal resources.

In order to assist USDOL in assessing the efficient and effective allocation of project funding, the Applicant shall submit a project budget that clearly details the costs for performing all of the requirements presented in this solicitation, including producing all deliverables, reporting on implementation and progress, and monitoring progress. Applicants are reminded to budget for compliance with the administrative requirements set forth (copies of all regulations are referenced in this SGA are available at no cost, on-line, at http://www.dol.gov). This includes the costs of performing activities such as travel to Washington, DC to meet with USDOL/ILAB, financial audit, project closeout, document preparation (e.g., progress reports, project document), and ensuring compliance with procurement and property standards. The Project Budget should identify administrative costs separately from programmatic costs. In addition to the costs identified previously, administrative costs include indirect costs from the costs pool and the cost of activities, materials (e.g., project car), and personnel (e.g., administrative assistants, office drivers) that support the management and administration of the project but do not provide direct services to project beneficiaries.

The technical panel will review grant applicants against the criteria listed below on the basis of 100 points.

B. Technical Approach—45 Points

• The extent to which the application sets forth a clear and supportable course of action to strengthen the capacity of Colombian trade union leaders to: (a) More effectively support the economic, political and social development of Colombia, (b) promote respect for human and worker rights; and (c) play a positive role in the peace process. The Applicant will be evaluated on the clear identification and description of the specific strategy(s) the Applicant proposes to use, its effectiveness, and attainability of project objectives by the end of the grant period. (10 points)

• Demonstrated familiarity with the major issues related to the components being addressed (e.g., general project context, key problems and/or needs in the relevant country/area, the specific problem(s) and/or need(s) that will be addressed by this project(s), and relevant constraints). The Applicant will be evaluated on the thorough and accurate assessment of the implementing environment and the problems that exist and clear identification of the specific problem(s) the Applicant proposes to address. (5 points)

• A monitoring and evaluation plan for measuring project performance that includes challenging but realistic targets and measurable, verifiable project indicators that measure achievement of project objectives and performance in project implementation. (5 points)

• Submission of a schedule of quarterly deliverables that will serve to determine the level of performance of the contractor. The identification of deliverables that are presented in the proposal should be objective, verifiable, and demonstrate progress in achieving project objectives. (5 points)

C. Institutional Qualifications/Past Performance—25 Points

• Prior experience working with Colombian trade unionists to strengthen their capacity to play a constructive role in the economic, political and social development of Colombia. The application shall include information as an attachment (which will not count towards the page limit) regarding previous grants, contracts, or grants, including (a) the organization for which the work was done, (b) a contact person in that organization with his/her current phone number, (c) the dollar value of the grant, contract, or Grant for the project(s), (d) the time frame and professional effort, either directly by key personnel, by consultants, or under contractual arrangements involved in the project(s), (e) a brief summary of the work performed; and (f) a brief summary of accomplishments. (10 points)

• Prior experience in designing and implementing activities related to training in trade union administration, collective bargaining, industrial dispute prevention and resolution, English as a second language, basic computer literacy, and relocating training candidates for training in the U.S. or a third country. (5 points)

• Clear organizational structure and management plan, illustrating experience with carrying out participatory development activities with organizations (i.e., government ministries, employer organizations, worker organizations, community organizations) and maintaining positive and effective relationships with partners. (5 points)

• Demonstration of strong financial management and internal control systems. (5 points)

D. Experience of Personnel—30 Points

• Key personnel with prior experience directly related to the proposed work, including technical and language qualifications, professional competence, relevant academic background, and demonstrated experience. Applicants shall submit a résumé for each key personnel proposed, which includes the individual's current employment status and previous work experience, including position title, duties performed, dates in position, employing organizations, and educational background. Duties must be clearly defined in terms of role performed (i.e., manager, team leader, consultant). Résumés shall be included as attachments, which do not count against the page limitation. (20 points)

• Clear management plan demonstrating the staffing requirements and other resources needed to implement the approach. (10 points)

E. Leveraging of Grant Funding—5 Points

USDOL will award up to five (5) additional rating points to applications that include non-Federal resources that significantly expand the size and scope of project-related activities. These programs will not be financed by the project, but can complement and enhance project objectives. To be eligible for the additional points, the applicant must list the resource(s), the nature, and possible activities anticipated and any partnerships, linkages, or coordination of activities, cooperative funding, etc.

F. Suggested Outline for Technical Proposal

This outline is provided as a guideline. Organizations may elect a format of their choosing, subject to the requirements of this announcement.

1. Executive Summary

2. Program Description

Goal and Objectives

Background

Technical Approach and Implementation Timetable (Proposed Intervention)

Experience of Personnel

Identification of Deliverables and Quarterly Schedule of their submission to determine contractor performance

Staffing Pattern and Project Management Organizational Chart

Leveraging of non-Federal Resources

3. Attachments

Summaries of other relevant organizational experiences

Résumés of key personnel and signed letters of commitment to the project

This stated commitment will be incorporated into the text of the grant with the selected applicant(s).

Signed at Washington, DC, this 25th day of June 2003.
Lawrence J. Kuss,
Grant Officer.

BILLING CODE 4150-28-P

[FR Doc. 03-16545 Filed 6-30-03; 8:45 am]

BILLING CODE 4150-28-C